DEPARTMENT OF COMMERCE

National Institute of Standards and Technology

[Docket No.: 030908225-3225-01]

Request for Technical Input on Standards Issues and Foreign Markets

AGENCY: National Institute of Standards and Technology, Department of Commerce.

ACTION: Notice of inquiry.

SUMMARY: The Department of Commerce requests industry comments on pressing standards issues and priority foreign markets. As part of the Department's Secretarial Initiative to Enhance Commerce Department Standards Activities, the Department is currently conducting a series of industry roundtables, seeking comment on barriers in export markets caused by foreign governments' policies on standards and technical regulatory requirements. The Department is supplementing these roundtables with a general solicitation of comments from industry representatives via this notice.

The Department has also scheduled an open roundtable standards discussion, to be held on October 23 at the Department of Commerce and invites interested parties to indicate their interest in participating in this roundtable.

DATES: Written comments on standards issues and foreign markets must be submitted to NIST no later than November 1, 2003.

The Department also invites industry to attend an open roundtable standards discussion, to be held on October 23 at the Department of Commerce. Participants in the discussion will be asked for their individual input and advice, and will not be asked to furnish group consensus advice.

A request to attend the open roundtable standards discussion should be submitted to ITA no later than September 30, 2003.

ADDRESSES: The public is strongly encouraged to submit comments electronically rather than by facsimile or by mail.

All comments on standards issues and foreign markets should be addressed to: Dr. Belinda Collins, Deputy Director, Technology Services, National Institute of Standards and Technology, 100 Bureau Drive, MS 2000, Gaithersburg, MD 20899, fax (301) 975-2183. E-mail: belinda.collins@nist.gov.

Those wishing to attend the open roundtable discussion should contact: Ms. Lisa Handy, Office of the Assistant Secretary for Trade Development, International Trade Administration, 1401 Constitution Avenue, NW., Washington, DC 20230. E-mail: lisa_handy@ita.doc.gov. The October 23 roundtable discussion will be held at the U.S. Department of Commerce, 1401 Constitution Avenue, NW., Washington, DC 20230.

The full text of the Initiative is available at: http://www.commerce.gov/opa/press/2003_Releases/March/19_Standards.htm.

FOR FURTHER INFORMATION CONTACT: For further information on submitting input on standards issues and barriers in export markets, contact Dr. Belinda Collins, Deputy Director, Technology Services, National Institute of Standards and Technology (NIST), Tel: 301-975-4500 or Ms. Christine DeVaux, Technology Services, NIST, Tel: 301-975-4679.

For further information on the open roundtable, contact Ms. Lisa Handy, International Trade Administration, Tel: 202-482-2788.

SUPPLEMENTARY INFORMATION:

Background

On March 19, 2003, Commerce Secretary Donald L. Evans announced an eight-point Standards Initiative to help break down trade barriers. The initiative is in response to industry concerns that foreign standards and technical regulation issues are becoming among the greatest challenges to expanding exports.

Foreign standards and methods used to assess conformity to standards can facilitate efficient international trade and its benefits, or they also can be used intentionally or unintentionally to impede access to foreign markets. Many in industry view foreign standards and technical regulation as a principal non-tariff barrier in markets around the world. Divergent standards, redundant testing and compliance procedures, and unilateral and non-transparent standard setting exercises are now recognized as major impediments to free trade—estimated to affect 80 percent of world commodity trade.

Over the course of the last several months, a number of industry associations and companies have highlighted foreign standards development and technical regulations as an issue of increasing importance for U.S. exports. There is a sense from industry that the U.S. Government, specifically the Commerce Department, could do more to reduce the barriers to export markets caused by foreign governments' adverse policies on standards and technical regulatory requirements.

In response to industry concerns, the Commerce Department has developed an eight-point initiative to augment current activities as an effective framework to address the relationship between foreign standards and the international competitiveness of U.S. companies. The outputs of the Initiative will be used to determine recommendations to the Secretary by January 2004 for future action.

Initiative

The full text of the Initiative may be found at http://www.commerce.gov/opa/press/2003_Releases/March/19_Standards.htm.

Under the Initiative, the Department will carry out the following activities:

(1) Conduct a standards activity assessment of all existing Commerce Department programs and efforts to reduce standards-related barriers in foreign markets; recommendations will be made to the Secretary for future action.

(2) Reinforce expertise in key markets through a new, redesigned, intensive training program for standards liaisons posted abroad.

(3) Devise an effective standards training and outreach program for all Commerce Department Foreign Commercial Service Officers.

(4) Develop and create a “best practices” database in addressing standards issues in foreign markets.

(5) Expand the early warning system to disseminate market intelligence and information on standards developments in key priority foreign markets in Europe, Asia, and Latin America.

(6) Support the development of a dialogue on standards within the proposed President's Export Council subcommittee on technology and competitiveness.

(7) Reach out to U.S. industry by hosting a series of industry-specific roundtables to gather input from industry on the most pressing standards issues and priority foreign markets. Summaries of the industry roundtables will be made publicly available by December 31, 2003.

(8) Appoint a liaison at the International Trade Administration to ensure that industry's priorities on standards are promoted through the Department's international policies and programs.

Industry Roundtables

As part of the Initiative, the Department of Commerce is conducting a series of standards roundtables in order to gain U.S. industry's insight into how foreign standards and related technical regulations affect their competitiveness overseas. The Department is also interested in industry's views on national standards issues. Industry input will be used for the following:

(1) Outlining a roadmap for future action by DOC, based on some of the major concerns and issues raised by industry and based on areas where the Department's efforts are either supporting or not supporting industry's most important needs;

(2) Determining standards-related programs and strategies for Department activities; and,

(3) Informing Commerce offices on the current status of industry issues and on industry perspectives, and ensuring that their concerns are heard by a broad cross-section of the Department, including at senior levels.

Any advice will be provided by the participants acting as individuals and not as a group.

Submissions

Input directed to the Department of Commerce should focus on the following questions (additional comments are also welcome):

1. What are the highest priority standards issues facing your industry?

2. Are there adequate national and/or international standards to satisfy your industry's trade/export-related needs?

3. Does your industry experience standards-related problems in specific countries or regions, or do these problems affect multiple regions?

4. Do your industry's problems result primarily from the technical requirements contained in standards or technical regulations that adopt such standards? Please describe specific examples where the technical requirements resulted in market entry problems in your industry.

5. Do your industry's problems result from how compliance with technical requirements is assessed? Do you have examples of cases where either the technical requirements or the assessment process resulted in market entry problems for your industry?

6. Has your industry been able to take an effective approach to address international standards issues? What steps have produced the most benefit? Could other industrial sectors benefit from using these approaches?

7. Has your industry been able to take an effective approach to address national standards issues? What steps have produced the most benefit? Could other industrial sectors benefit from using these approaches?

8. Do you have examples of a problem experienced by your industry where the federal government has been effective in resolving the issues? What steps taken by federal government officials were effective in resolving the issue, and why were they effective? Would such steps or approaches be applicable in other cases or were their successes unique to a specific problem? What steps were ineffective or less effective, and why do you think that this was so? Was it the unique nature of the problem, or would such steps have been equally ineffective in most cases?

9. What actions would you recommend the Department undertake following this and similar roundtables? Would your industry be willing to help to improve the situation encountered with respect to problems associated with standards and conformity assessment?

All comments must be submitted no later than November 1, 2003.

Dated: September 16, 2003.
Arden L. Bement, Jr.,
Director.

[FR Doc. 03-24176 Filed 9-23-03; 8:45 am]

BILLING CODE 3510-13-P